DEPARTMENT OF TRANSPORTATION

Federal Aviation Administration

Aviation Weather Product Change: Transition of Select Area Forecasts (FAs) to Digital and Graphical Alternatives

AGENCY: Federal Aviation Administration.

ACTION: Notice.

SUMMARY: The Federal Aviation Administration (FAA), in coordination with the National Weather Service (NWS), will transition seven (7) Area Forecasts (FAs), currently used as flight planning and pilot weather briefing aids, to digital and graphical alternatives. A joint-agency working group has concluded that these digital and graphical alternatives better-meet the needs of today's aviation users. Guidance with respect to the proper use of these alternatives is forthcoming.

Note: Area Forecasts (FAs) for Alaska, the Caribbean, and the Gulf of Mexico will remain unaffected at this time.

DATES: The Federal Aviation Administration must receive comments on or before August 4, 2014. The Agencies are targeting early 2015 for transition.

ADDRESSES: Please mail comments concerning this notice to the NextGen Aviation Weather Division (ANG-C6), Federal Aviation Administration, 800 Independence Ave. SW., Washington, DC 20591.

FOR FURTHER INFORMATION CONTACT: Stewart Stepney, 202-385-7182 or stewart.stepney@faa.gov.

SUPPLEMENTARY INFORMATION: United States Code (citation below) directs the Administrator of the Federal Aviation Administration (FAA) to make recommendations to the Secretary of Commerce on providing meteorological services necessary for the safe and efficient movement of aircraft. The Secretary, in turn, is directed to cooperate with the Administrator and give complete consideration to these recommendations. As such, FAA has coordinated extensively with the National Weather Service (NWS) to review current and future aviation weather information requirements.

The Area Forecast (FA) is an abbreviated, plain-language forecast of specified weather phenomena, covering a geographical area designated by the FAA. The Area Forecast (FA) is used to determine en-route weather and to estimate conditions at airports that do not have a Terminal Aerodrome Forecast (TAF). It is produced by the National Weather Service (NWS) under the National Oceanic and Atmospheric Administration (NOAA), within the Department of Commerce (DoC).

The Area Forecast (FA) contains weather information in a format originally developed in the 1930s. By design, it carries a character-count limitation and is prohibited from describing Instrument Flight Rule (IFR) conditions (reserved for AIRMETs and SIGMETs). It covers an extremely large geographical area (typically, several states) and is only issued 3-4x daily (each valid for 18hrs).

These specifications tend to produce a broad forecast of limited value. While the Area Forecast (FA) met aviation weather information needs for many years, today NWS provides equivalent information through a number of better alternatives.

An FAA-NWS joint-agency working group recently recommended that the Area Forecast (FA) be transitioned to more-modern digital and graphical forecasts, observations, and communications capabilities that provide improved weather information to decision-makers.

Therefore, the FAA will formally recommend that NWS transition six (6) Area Forecasts (FAs) covering separate geographical areas of the Contiguous United States (CONUS) and one (1) Area Forecast (FA) covering Hawaii to digital and graphical alternatives already being produced by NWS.

The seven (7) Area Forecasts (FAs) affected include: FAUS41 (BOS), FAUS42 (MIA), FAUS43 (CHI), FAUS44 (DFW), FAUS45 (SLC), FAUS46 (SFO) and FAHW31 (Hawaii).

Note: Area Forecasts (FAs) for Alaska, the Caribbean, and the Gulf of Mexico will remain unaffected at this time.

Existing potential alternatives identified by the joint-agency working group include, but are not limited to:

• Surface weather analyses and prognostic charts

• public forecast discussions

• Significant Weather (SIGWX) charts

• National Digital Forecast Database (NDFD)

• Terminal Aerodrome Forecasts (TAFs)

• Airmen's Meteorological Information (AIRMETs)

Aviation users are already accustomed to consulting many of these weather products during normal flight planning. Together, they provide information similar to that found in the Area Forecast (FA), in higher resolution and with the added benefit of graphical depictions.

The joint-agency working group's membership included broad subject-matter expertise from both FAA and NWS, as well as the National Transportation Safety Board (NTSB). Members collected insight from additional aviation weather stakeholders including various pilot organizations, weather briefers, airlines and air traffic controllers.

Before the transition takes place, the FAA will conduct a formal Safety Risk Assessment as part of FAA's Safety Management System. Guidance with respect to the proper use of proposed alternatives is forthcoming.

Interested parties and stakeholders may submit comments regarding the planned transition by standard mail or by email (kiley@avmet.com). Comments must be received on or before August 4, 2014. The Agencies are targeting early 2015 for transition.

Authority: 49 U.S.C. § 44720(a).

Dated: June 11, 2014.
Richard J. Heuwinkel,
Manager, Aviation Weather Division.

[FR Doc. 2014-14364 Filed 6-18-14; 8:45 am]

BILLING CODE 4910-13-P